DEPARTMENT OF ENERGY

Federal Energy Regulatory Commission

Combined Notice of Filings #1

Take notice that the Commission received the following exempt wholesale generator filings:

Docket Numbers: EG22-1-000.

Applicants: Route 66 Solar Energy Center, LLC.

Description: Notice of Self-Certification of Exempt Wholesale Generator Status of Route 66 Solar Energy Center, LLC.

Filed Date: 10/6/21.

Accession Number: 20211006-5133.

Comment Date: 5 p.m. ET 10/27/21.

Docket Numbers: EG22-2-000.

Applicants: Cypress Creek Fund 7 Tenant, LLC.

Description: Notice of Self-Certification of Exempt Wholesale Generator Status of Cypress Creek Fund 7 Tenant, LLC.

Filed Date: 10/7/21.

Accession Number: 20211007-5099.

Comment Date: 5 p.m. ET 10/28/21.

Docket Numbers: EG22-3-000.

Applicants: Cypress Creek Fund 6 Tenant, LLC.

Description: Notice of Self-Certification of Exempt Wholesale Generator Status of Cypress Creek Fund 6 Tenant, LLC.

Filed Date: 10/7/21.

Accession Number: 20211007-5100.

Comment Date: 5 p.m. ET 10/28/21.

Docket Numbers: EG22-4-000.

Applicants: Cypress Creek Fund 5 Tenant, LLC.

Description: Notice of Self-Certification of Exempt Wholesale Generator of Cypress Creek Fund 5 Tenant, LLC.

Filed Date: 10/7/21.

Accession Number: 20211007-5101.

Comment Date: 5 p.m. ET 10/28/21.

Docket Numbers: EG22-5-000.

Applicants: CCP-PL Lessee, LLC.

Description: Notice of Self-Certification of Exempt Wholesale Generator Status of CCP-PL Lessee, LLC.

Filed Date: 10/7/21.

Accession Number: 20211007-5102.

Comment Date: 5 p.m. ET 10/28/21.

Docket Numbers: EG22-6-000.

Applicants: Hecate Energy Highland LLC.

Description: Notice of Self-Certification of Exempt Wholesale Generator Status of Hecate Energy Highland LLC.

Filed Date: 10/6/21.

Accession Number: 20211006-5142.

Comment Date: 5 p.m. ET 10/27/21

Take notice that the Commission received the following electric rate filings:

Docket Numbers: ER20-2282-001.

Applicants: Midcontinent Independent System Operator, Inc.

Description: Compliance filing: 2021-10-07_SA 2951 Northern States Power-MDU Sub 2nd Rev GIA (J316) to be effective 6/26/2020.

Filed Date: 10/7/21.

Accession Number: 20211007-5076.

Comment Date: 5 p.m. ET 10/28/21.

Docket Numbers: ER20-2283-003.

Applicants: Midcontinent Independent System Operator, Inc.

Description: Compliance filing: 2021-10-07_SA 3517 2nd Substitute NSP-MDU FSA (J316) to be effective 7/1/2020.

Filed Date: 10/7/21.

Accession Number: 20211007-5084.

Comment Date: 5 p.m. ET 10/28/21.

Docket Numbers: ER21-2886-001.

Applicants: Old Middleboro Road Solar, LLC.

Description: Tariff Amendment: Old Middleboro Road Solar LLC Revised MBR Filing to be effective 10/1/2021.

Filed Date: 10/7/21.

Accession Number: 20211007-5093.

Comment Date: 5 p.m. ET 10/28/21.

Docket Numbers: ER21-2887-001.

Applicants: Leicester Street Solar, LLC.

Description: Tariff Amendment: Leicester Street Solar LLC Revised MBR Filing to be effective 10/1/2021.

Filed Date: 10/7/21.

Accession Number: 20211007-5092.

Comment Date: 5 p.m. ET 10/28/21.

Docket Numbers: ER22-52-000.

Applicants: Northern Indiana Public Service Company LLC.

Description: Section 205(d) Rate Filing: NIPSCO-AEP Indiana Dark Fiber Lease to be effective 9/10/2021.

Filed Date: 10/6/21.

Accession Number: 20211006-5121.

Comment Date: 5 p.m. ET 10/27/21.

Docket Numbers: ER22-53-000.

Applicants: Portland General Electric Company.

Description: Section 205(d) Rate Filing: OATT Clean-up Filing to be effective 12/6/2021.

Filed Date: 10/7/21.

Accession Number: 20211007-5003.

Comment Date: 5 p.m. ET 10/28/21.

Docket Numbers: ER22-54-000.

Applicants: Golden Spread Electric Cooperative, Inc.

Description: Section 205(d) Rate Filing: WPC Sched B Rider I and FRT Filing to be effective 2/1/2021.

Filed Date: 10/7/21.

Accession Number: 20211007-5012.

Comment Date: 5 p.m. ET 10/28/21.

Docket Numbers: ER22-55-000.

Applicants: CenterPoint Energy Houston Electric, LLC.

Description: Section 205(d) Rate Filing: TFO Tariff Interim Rate Revision to Conform with PUCT-Approved Rate to be effective 10/4/2021.

Filed Date: 10/7/21.

Accession Number: 20211007-5014.

Comment Date: 5 p.m. ET 10/28/21.

Docket Numbers: ER22-56-000.

Applicants: Hecate Energy Gedney Hill LLC, Sunset Hill Solar, LLC.

Description: Request for Limited Waiver of Hecate Energy Gedney Hill LLC and Sunset Hill Solar LLC.

Filed Date: 10/6/21.

Accession Number: 20211006-5135.

Comment Date: 5 p.m. ET 10/27/21.

Docket Numbers: ER22-57-000.

Applicants: SE Athos I, LLC.

Description: Section 205(d) Rate Filing: Filing of LGIA Co-Tenancy Agreement and Request for Waivers to be effective 10/8/2021.

Filed Date: 10/7/21.

Accession Number: 20211007-5015.

Comment Date: 5 p.m. ET 10/28/21.

Docket Numbers: ER22-58-000.

Applicants: SE Athos II, LLC.

Description: Section 205(d) Rate Filing: Certificate of Concurrence to be effective 10/8/2021.

Filed Date: 10/7/21.

Accession Number: 20211007-5039.

Comment Date: 5 p.m. ET 10/28/21.

Docket Numbers: ER22-59-000.

Applicants: Navajo Tribal Utility Authority.

Description: Petition for Limited Waiver of Navajo Tribal Utility Authority.

Filed Date: 10/6/21.

Accession Number: 20211006-5138.

Comment Date: 5 p.m. ET 10/27/21.

Docket Numbers: ER22-60-000.

Applicants: Southwest Power Pool, Inc.

Description: Section 205(d) Rate Filing: Revisions to Attachment X to Clarify Financial Security Requirements to be effective 1/1/2022.

Filed Date: 10/7/21.

Accession Number: 20211007-5064.

Comment Date: 5 p.m. ET 10/28/21.

Docket Numbers: ER22-61-000.

Applicants: San Diego Gas & Electric Company.

Description: Section 205(d) Rate Filing: Service Agreement No. 60 FERC Electric Tariff Volume No. 11 to be effective 10/8/2021.

Filed Date: 10/7/21.

Accession Number: 20211007-5082.

Comment Date: 5 p.m. ET 10/28/21.

Docket Numbers: ER22-62-000.

Applicants: Southern California Edison Company.

Description: Section 205(d) Rate Filing: SCE Amended WDAT Attachment I GIP—QC14 to be effective 12/7/2021.

Filed Date: 10/7/21.

Accession Number: 20211007-5085.

Comment Date: 5 p.m. ET 10/28/21.

Docket Numbers: ER22-63-000.

Applicants: Southwest Power Pool, Inc.

Description: Section 205(d) Rate Filing: 3505R2 ENGIE Energy Marketing NA & Sunflower Meter Agent Agr to be effective 10/1/2021.

Filed Date: 10/7/21.

Accession Number: 20211007-5090.

Comment Date: 5 p.m. ET 10/28/21.

Docket Numbers: ER22-64-000.

Applicants: Jersey Central Power & Light Company.

Description: Tariff Amendment: Notice of Cancellation of Agreements and Request for Waiver of Notice Requiremen to be effective 3/5/2021.

Filed Date: 10/7/21.

Accession Number: 20211007-5091.

Comment Date: 5 p.m. ET 10/28/21.

Docket Numbers: ER22-65-000.

Applicants: PacifiCorp.

Description: Section 205(d) Rate Filing: OATT Formula Rate—Schedule 10 Dist System Loss Factor January 2022 to be effective 1/1/2022.

Filed Date: 10/7/21.

Accession Number: 20211007-5097.

Comment Date: 5 p.m. ET 10/28/21.

Docket Numbers: ER22-66-000.

Applicants: Sundance Wind Project, LLC.

Description: Tariff Amendment: FERC Electric Tariff No. 1 to be effective 10/7/2021.

Filed Date: 10/7/21.

Accession Number: 20211007-5103.

Comment Date: 5 p.m. ET 10/28/21.

Docket Numbers: ER22-67-000.

Applicants: Citizens Sunrise Transmission LLC.

Description: Section 205(d) Rate Filing: Annual TRBAA Filing October 2020 to be effective 1/1/2022.

Filed Date: 10/7/21.

Accession Number: 20211007-5140.

Comment Date: 5 p.m. ET 10/28/21.

Docket Numbers: ER22-68-000.

Applicants: Citizens Sycamore-Penasquitos Transmission LLC.

Description: Section 205(d) Rate Filing: Annual Operating Cost True-Up Adjustment Informational to be effective 1/1/2022.

Filed Date: 10/7/21.

Accession Number: 20211007-5148.

Comment Date: 5 p.m. ET 10/28/21.

Docket Numbers: ER22-69-000.

Applicants: Indeck Niles, LLC.

Description: Baseline eTariff Filing: MBR Tariff Application for Indeck NIles, LLC to be effective 10/15/2021.

Filed Date: 10/7/21.

Accession Number: 20211007-5163.

Comment Date: 5 p.m. ET 10/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2021.
Debbie-Anne A. Reese,
Deputy Secretary.

[FR Doc. 2021-22374 Filed 10-13-21; 8:45 am]

BILLING CODE 6717-01-P